DEPARTMENT OF HOMELAND SECURITY

Coast Guard

[USCG-2008-0929; Control Number: 1625-0040]

Information Collection Request to Office of Management and Budget; OMB

AGENCY: Coast Guard, DHS.

ACTION: Reopening comment period.

SUMMARY: On September 23, 2008, the U.S. Coast Guard published a notice in the Federal Register requesting comments on our intent to submit an Information Collection Request (ICR) and Analysis to the Office of Management and Budget (OMB) requesting a revision of its approval for the following collection of information: 1625-0040, Continuous Discharge Book, Application, Physical Exam Report, Sea Service Report, Chemical Testing, Entry Level Physical. That notice stated the complete ICR would be available through both the online docket and at the Coast Guard facility in Washington, DC. Because the complete ICR was not made available online during the stated comment period, we are reopening it until February 5, 2008.

DATES: Comments must reach the Coast Guard on or before February 5, 2008.

ADDRESSES: To avoid duplicate submissions to the docket [USCG-2008-0929], please use only one of the following means:

(1) Online: http://www.regulations.gov.

(2) Mail: Docket Management Facility (DMF) (M-30), U.S. Department of Transportation (DOT), West Building Ground Floor, Room W12-140, 1200 New Jersey Avenue, SE., Washington, DC 20590-0001.

(3) Hand deliver: Same as mail address above, between 9 a.m. and 5 p.m., Monday through Friday, except Federal holidays. The telephone number is 202-366-9329.

(4) Fax: 202-493-2251.

The DMF maintains the public docket for this notice. Comments and material received from the public, as well as documents mentioned in this notice as being available in the docket, will become part of this docket and will be available for inspection or copying at room W12-140 on the West Building Ground Floor, 1200 New Jersey Avenue, SE., Washington, DC, between 9 a.m. and 5 p.m., Monday through Friday, except Federal holidays. You may also find this docket on the Internet at http://www.regulations.gov.

A copy of the ICR is available through this docket on the Internet at http://www.regulations.gov. Additionally, copies are available from Commandant (CG-611), U.S. Coast Guard Headquarters, (Attn: Mr. Arthur Requina), 2100 2nd Street, SW., Washington, DC 20593-0001. The telephone number is 202-475-3523.

FOR FURTHER INFORMATION CONTACT: Mr. Arthur Requina, Office of Information Management, telephone 202-475-3523, or fax 202-475-3929, for questions on these documents. Contact Ms. Renee V. Wright, Program Manager, Docket Operations, 202-366-9826, for questions on the docket.

SUPPLEMENTARY INFORMATION:

Public Participation and Request for Comments

The Coast Guard invites comments on whether this ICR should be granted based on the collection being necessary for the proper performance of Departmental functions. In particular, the Coast Guard would appreciate comments addressing: (1) The practical utility of the collection; (2) the accuracy of the estimated burden of the collection; (3) ways to enhance the quality, utility, and clarity of information subject to the collection; and (4) ways to minimize the burden of the collection on respondents, including the use of automated collection techniques or other forms of information technology.

We encourage you to respond to this request by submitting comments and related materials. We will post all comments received, without change, to http://www.regulations.gov. They will include any personal information you provide. We have an agreement with DOT to use their DMF. Please see the paragraph on DOT's “Privacy Act Policy” below.

Submitting comments: If you submit a comment, please include the docket number [USCG-2008-0929], indicate the specific section of the document to which each comment applies, providing a reason for each comment. We recommend you include your name, mailing address, an e-mail address, or other contact information in the body of your document so that we can contact you if we have questions regarding your submission. You may submit your comments and material by electronic means, mail, fax, or delivery to the DMF at the address under ADDRESSES; but please submit them by only one means. If you submit them by mail or delivery, submit them in an unbound format, no larger than 8½ by 11 inches, suitable for copying and electronic filing. If you submit them by mail and would like to know that they reached the Facility, please enclose a stamped, self-addressed postcard or envelope. We will consider all comments and material received during the comment period and will address them accordingly.

Viewing comments and documents: Go to http://www.regulations.gov to view documents mentioned in this notice as being available in the docket. Enter the docket number for this notice [USCG-2008-0929] in the Search box, and click “Go >>.” You may also visit the DMF in room W12-140 on the West Building Ground Floor, 1200 New Jersey Avenue, SE., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act statement regarding our public dockets in the January 17, 2008 issue of the Federal Register (73 FR 3316)

Previous Request for Comments

On September 23, 2008, the Coast Guard published a notice in the Federal Register (73 FR 54853) requesting comments on our intent to submit an ICR to the Office of Management and Budget (OMB) requesting a revision of its approval for the following collection of information: 1625-0040, Continuous Discharge Book, Application, Physical Exam Report, Sea Service Report, Chemical Testing, Entry Level Physical. It stated the ICR would be made available both in the online docket and at a Coast Guard facility in Washington, DC. However, the ICR was not made available online during the stated comment period, so the comment period is reopened until February 5, 2008.

Information Collection Request

Title: Continuous Discharge Book, Application, Physical Exam Report, Sea Service Report, Chemical Testing, Entry Level Physical.

OMB Control Number: 1625-0040.

Summary: Title 46 U.S.C. 7302(b) authorizes the Coast Guard to issue a Continuous Discharge Book (CG Form 719A) upon request from an individual. Title 46, Code of Federal Regulations (CFR), paragraphs 10.205(a), 10.207(a), 10.209(a)(1), 12.02-9(a), and 12.02-27(a)(1) mandate that each applicant for a license, certificate of registry, or merchant mariner document shall make written application on a Coast Guard furnished form Application for License as Officer, Staff Officer, Operator, and Merchant Mariner's Document (CG Form 719B); sections 10.205(d), 12.05-5, and 12.15-5 require each applicant requesting a license or merchant mariner document must present a completed Coast Guard physical examination report, Merchant Mariner Physical Examination Report (CG Form 719K) executed by the physician. Sections 10.207(e)(2) and 10.209(d)(2) of 46 CFR state the report may be required. Further, paragraph 10.211(a) mandates criteria Small Vessel Sea Service Form (CG Form 719S) for documenting sea service on vessels of less than 200 gross registered tons. Paragraphs 10.202(i) and 12.02-9(f) mandates that each applicant shall produce evidence, DOT/USCG Periodic Drug Testing Form (CG Form 719P) of having passed a chemical test for dangerous drugs. Paragraph 12.02-17(e) requires entry-level merchant mariner document applicants to provide a statement from a qualified practitioner attesting to the applicant's medical fitness to perform the functions for which the document is issued Entry Level Physical (CG Form 719K/E).

Need: The Coast Guard will use the information collected solely for the purposes of determining issuance eligibility of a merchant mariner credential(s), i.e., license, certificate of registry, or merchant mariner document.

Forms: CG Form 719A, Continuous Discharge Book; CG Form 719B, Application for License as Officer, Staff Officer, Operator, and Merchant Mariner's Document; CG Form 719K, Merchant Mariner Physical Examination Report; CG Form 719K/E, Entry Level Physical; CG Form 719S, Small Vessel Sea Service Form; and CG Form 719P, DOT/USCG Periodic Drug Testing Form.

Respondents: Individuals and households.

Frequency: On occasion.

Burden Estimate: The estimated burden has decreased from 329,356 hours to 10,833 hours a year.

Dated: December 29, 2008.
D.T. Glenn,
Rear Admiral, U.S. Coast Guard Assistant Commandant for Command, Control, Communications, Computers and Information Technology.

[FR Doc. E8-31419 Filed 1-5-09; 8:45 am]

BILLING CODE 4910-15-P